NUCLEAR REGULATORY COMMISSION

10 CFR Part 50

[NRC-2024-0045]

RIN 3150-AL06

Incorporation by Reference of Institute of Electrical and Electronics Engineers Standard 603-2018

AGENCY: Nuclear Regulatory Commission.

ACTION: Public meeting.

SUMMARY: The U.S. Nuclear Regulatory Commission (NRC) plans to hold a public meeting to discuss the recently published proposed rule that proposes amending its regulations to incorporate by reference the Institute of Electrical and Electronics Engineers Standard (Std) 603-2018, “IEEE Standard Criteria for Safety Systems for Nuclear Power Generating Stations,” and the accompanying Draft Regulatory Guide (DG) DG-1251, Revision 1, “Guidance for the Power, Instrumentation, and Control Portions of Safety Systems for Nuclear Power Plants.”

DATES: The NRC plans to hold the public meeting on February 3, 2026, during the 60-day public comment period. See section II, Public Meeting, of this document for more information on the meeting.

ADDRESSES: Please refer to Docket ID NRC-2024-0045 when contacting the NRC about the availability of information regarding this public meeting. You may obtain publicly available information related to this action by any of the following methods:

• Federal Rulemaking Website: Go to https://www.regulations.gov and search for Docket ID NRC-2024-0045. Address questions about NRC dockets to Helen Chang; telephone: 301-415-3228; email: Helen.Chang@nrc.gov. For technical questions contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Denise Edwards, Office of Nuclear Material Safety and Safeguards, telephone: 301-415-7204; email: Denise.Edwards@nrc.gov, and Gilberto Blas Rodriguez, Office of Nuclear Reactor Regulation, telephone: 301-287-9260; email: Gilberto.BlasRodriguez@nrc.gov. Both are staff of the U.S. Nuclear Regulatory Commission, Washington, DC 20555-0001.

SUPPLEMENTARY INFORMATION:

I. Background

On December 19, 2025, the NRC published a notice in the Federal Register for a 60-day public comment period (90 FR 59402). The proposed rule would amend the regulations by the incorporation by reference of Institute of Electrical and Electronics Engineers Standard (IEEE Std) 603-2018 into title 10 of the Code of Federal Regulations (10 CFR) 50.55a, “Codes and standards,” and to provide for its use for nuclear power reactors of all types. This proposed rule also includes a conforming amendment to paragraph (b)(1)(v) of section 50.69, “Risk-informed categorization and treatment of structures, systems and components for nuclear power reactors,” of 10 CFR, which would extend that provision to allow risk-informed alternatives to Clauses 5.3 and 5.4 of IEEE 603-2018 for certain systems, structure, and components.

II. Public Meeting

The NRC staff plans to hold the public meeting on February 3, 2026, during the planned, 60-day public comment period to present an overview of the proposed to amend its regulations to incorporate by reference the Institute of Electrical and Electronics Engineers (IEEE) Standard (Std) 603-2018, “IEEE Standard Criteria for Safety Systems for Nuclear Power Generating Stations” and the accompanying DG-1251, Revision 1, “Guidance for the Power, Instrumentation, and Control Portions of Safety Systems for Nuclear Power Plants.”

Interested stakeholders may attend via telephone or online seminar. The public meetings will be transcribed and will include a presentation of the contents of the proposed rule and draft guidance; and an opportunity for government agencies, organizations, and individuals to ask questions. No comments on the proposed rule or draft guide will be accepted during the meeting. Persons interested in attending this meeting should monitor the NRC's Public Meeting Schedule web page at https://www.nrc.gov/pmns/mtg for additional information, agendas for the meeting, and access information for the meeting.

If special equipment or accommodations are needed to attend or present information at a public meeting, please contact Denise Edwards, telephone: 301-415-7204, email: Denise.Edwards@nrc.gov, no later than 10 days before the meeting to provide the NRC staff adequate notice to determine whether the request can be accommodated.

III. Availability of Documents

The documents identified in the following table are available to interested persons through one or more of the following methods, as indicated.

Document | Adams accession No./ Federal Register citation
Proposed Rule
Proposed Rule: Incorporation by Reference of Institute of Electrical and Electronics Engineers Standard 603-2018 | 90 FR 59402
Draft Guidance Document
DG-1251, Revision 1, Guidance for the Power, Instrumentation, and Control Portions of Safety Systems for Nuclear Power Plants | ML25114A021
Un-official Redline
Unofficial Redline of the NRC's Proposed Rule: Incorporation by Reference of Institute of Electrical and Electronics Engineers Standard 603-2018 NRC 2024-0045; RIN-3150-AL06 | ML24353A325

The NRC may post materials related to this document, including public comments, on the Federal rulemaking website at https://www.regulations.gov under Docket ID NRC-2024-0045. The Federal rulemaking website allows members of the public to receive alerts when changes or additions occur in a docket folder. The following actions are needed to subscribe: (1) navigate to the docket folder NRC-2024-0045, (2) click the “Subscribe” button, and (3) enter an email address and click on the “Subscribe” button.

Dated: January 22, 2026.
For the Nuclear Regulatory Commission.
George Tartal,
Acting Chief, Reactor Rulemaking and Project Management Branch, Division of Rulemaking, Financial and Environmental Support, Office of Nuclear Material Safety and Safeguards.

[FR Doc. 2026-01534 Filed 1-26-26; 8:45 am]

BILLING CODE 7590-01-P